DEPARTMENT OF AGRICULTURE

Agricultural Marketing Service

[Docket Number FV-05-304]

United States Standards for Grades of Fresh Asparagus

AGENCY: Agricultural Marketing Service, USDA.

ACTION: Notice, request for public comment.

SUMMARY: The Agricultural Marketing Service (AMS), prior to undertaking research and other work associated with revising an official grade standard, is soliciting comments on a possible revision to the United States Standards for Grades of Fresh Asparagus. At a 2003 meeting of the Fruit and Vegetable Industry Advisory Committee, AMS was asked to review all the fresh fruit and vegetable grade standards for usefulness in serving the industry. As a result, AMS has noted that currently there are no provisions to allow purple or white asparagus to be graded using the standards. Therefore, AMS is soliciting comments on the possible revision of the color requirements in the grade standards. Additionally, AMS is seeking comments regarding any other revisions that may be necessary to better serve the industry.

DATES: Comments must be received by May 31, 2005.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; Fax (202) 720-8871, e-mail FPB.DocketClerk@usda.gov. Comments should make reference to the dates and page number of this issue of the Federal Register and will be made available for public inspection in the above office during regular business hours. The United States Standards for Grades of Fresh Asparagus is available either at the above address or by accessing the Fresh Products Branch Web site at: http://www.ams.usda.gov/standards/stanfrfv.htm.

FOR FURTHER INFORMATION CONTACT: David L. Priester, at the above address or call (202) 720-2185; e-mail David.Priester@usda.gov.

SUPPLEMENTARY INFORMATION: Section 203(c) of the Agricultural Marketing Act of 1946 (7 U.S.C. 1621-1627), as amended, directs and authorizes the Secretary of Agriculture “to develop and improve standards of quality, condition, quality, grade and packaging and recommend and demonstrate such standards in order to encourage uniformity and consistency in commercial practices * * *.” AMS is committed to carrying out this authority in a manner that facilitates the marketing of agricultural commodities and makes copies of official standards available upon request. The United States Standards for Grades of Fruit and Vegetables not connected with Federal Marketing Orders or U.S. Import Requirements, no longer appear in the Code of Federal Regulations, but are maintained by the USDA/AMS/Fruit and Vegetable Programs.

AMS is proposing to revise the U.S. Standards for Grades of Fresh Asparagus using the procedures that appear in Part 36, Title 7 of the Code of Federal Regulations (7 CFR part 36). These standards were last revised in 1966.

Background

At a meeting of the Fruit and Vegetable Industry Committee, AMS was asked to review all the fresh fruit and vegetable grade standards for usefulness in serving the industry. As a result, AMS has identified the U.S. Standards for Grades of Fresh Asparagus green color requirement for possible updating. Currently the standards require two-thirds of the asparagus stalk to be green color. AMS is proposing to revise the requirement to allow for purple and white asparagus to be graded using the standards. AMS believes that a revision to include purple and white asparagus in the color requirement section is warranted to better serve the industry. However, prior to undertaking detailed work to develop a proposed revision to the standard, AMS is soliciting comments on the possible revision to the standard and the probable impact on distributors, processors, and growers. Additionally, AMS is seeking comments regarding any other revisions that may be necessary to better serve the industry.

This notice provides for a 60-day comment period for interested parties to comment on changes to the standard. Should AMS conclude that there is a need for the revision of the standard, the proposed revision of the standard will be published in the Federal Register with a request for comments in accordance with 7 CFR part 36.

Authority: 7 U.S.C. 1621-1627.

Dated: March 23, 2005.
Kenneth C. Clayton,
Acting Administrator, Agricultural Marketing Service.

[FR Doc. 05-6083 Filed 3-28-05; 8:45 am]

BILLING CODE 3410-02-P